DEPARTMENT OF ENERGY

Federal Energy Regulatory Commission

[Project No. 5596-020]

Town of Bedford, Virginia; Notice of Intent To Prepare an Environmental Assessment

On April 30, 2021, the Town of Bedford, Virginia filed an application for a new major license for the 5.0-megawatt Bedford Hydroelectric Project (Bedford Project or project; FERC No. 5596). The Bedford Project is located on the James River, near the Town of Bedford, in Bedford and Amherst counties, Virginia.

In accordance with the Commission's regulations, on May 31, 2023, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Bedford Project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) (2022) require that EAs be completed within 1 year of the federal action agency's decision to prepare an EA. See National Environmental Policy Act, 42 U.S.C. 4321 et seq., as amended by section 107(g)(1)(B)(iii) of the Fiscal Responsibility Act of 2023, Public Law 118-5, section 4336a, 137 Stat. 42.

Milestone | Target date
Commission issues EA | January 2024.¹
Comments on EA | February 2024.

Any questions regarding this notice may be directed to Andy Bernick at (202) 502-8660 or andrew.bernick@ferc.gov.

Dated: August 17, 2023.
Kimberly D. Bose,
Secretary.

[FR Doc. 2023-18127 Filed 8-22-23; 8:45 am]

BILLING CODE 6717-01-P